DEPARTMENT OF DEFENSE

Department of the Army; Corps of Engineers

Notice of Intent To Prepare a Draft Environmental Impact Statement for a Proposed Cumberland County Regional Water Supply Project, Cumberland County, TN

AGENCY: Department of the Army, U.S. Army Corps of Engineers, DoD.

ACTION: Notice.

SUMMARY: The Corps of Engineers, Nashville District intends to prepare a Draft Environmental Impact Statement (DEIS) for a regional water supply project in Cumberland County, TN. This DEIS is necessary to provide National Environmental Policy Act (NEPA) coverage for a proposed regional water supply system capable of providing the county a reliable water supply for 50 years. The county is currently served by six water systems and development of individual water sources has been problematic from an environmental perspective. The county's current water supply capacity is approximately ten million gallons per day. A regional approach has been recommended to allow more efficient planning to develop future water supplies in an environmentally acceptable manner.

DATES: Written comments must be received by the Corps of Engineers on or before September 25, 2006.

ADDRESSES: Written comments on issues to be considered in the DEIS shall be mailed to: Tim Higgs, Project Planning Branch, Nashville District Corps of Engineers, P.O. Box 1070 (PM-P), Nashville, TN 37202-1070. Comments also may be e-mailed to timothy.a.higgs@usace.army.mil.

FOR FURTHER INFORMATION CONTACT: For questions or additional information concerning this notice and meeting announcement, please contact Tim Higgs, Environmental Engineer, (615) 736-7863 or Walter Green, Project Manager, (615) 736-7854.

SUPPLEMENTARY INFORMATION: 1. The intent of the DEIS is to provide National Environmental Policy Act coverage for design, construction, and operational features of a regional water supply project in Cumberland County. Section 219 of the Water Resources Development Act (WRDA) of 1992, as amended by Section 502(24) of the WRDA of 1999, authorizes $5,000,000 for technical planning, design and construction of water supply projects in Cumberland County.

1. In 1998, the Corps of Engineers, in cooperation with the Tennessee Department of Environment and Conservation, completed a Preliminary Engineering Report (PER) titled Cumberland County Regional Water Supply Study. This study was done at the request of Cumberland County under the Planning Assistance to States Program. The PER provided recommendations pertaining to engineering and permitting considerations for potential water supply alternatives to meet the county's projected needs through the year 2050. Due to potential environmental impacts associated with some of the alternatives, a determination has been made that an EIS is warranted.

2. Alternatives that have potential, either individually or in combination, for providing the county's future water supply needs include the following:

a. Water Conservation. Development and implementation of a water conservation plan which would include a water measurement and accounting system, a water pricing structure to encourage efficiency, a plan to inform and educate water users, assigning the responsibility for conservation activities to a person or group of persons, along with other water conservation measures.

b. Groundwater. Construct groundwater wells at 1-5 locations identified by a 1996 U.S. Geological Survey preliminary investigation as having the greatest potential to provide sufficient quantity for municipal usage.

c. Pipeline to Large Reservoir. Construct a raw water pipeline from an existing large reservoir. Potential water sources include Watts Bar Lake in Roane County, Center Hill Lake in White/DeKalb County, and Great Falls Lake in White County.

d. Storage Impoundments. Construct a new storage impoundment on Clear Creek (Obed River tributary), Meadow Creek (East Fork of the Obey River tributary), Caney Fork River or other suitable stream. A variation of this alternative is to raise the existing Meadow Park Dam, Mayland Dam, Camp Ozone Dam or Tranquilechee Dam to provide additional storage.

e. Water Harvesting. Construct intake and pumping facilities to harvest water only during high flow periods and store that water in an off-site detention area. (For example, harvesting water from Caney Fork River and storing it in a raised Meadow Park Lake.)

4. This notice serves to solicit comments from the public; Federal, state and local agencies and officials; Indian Tribes; and other interested parties in order to consider and evaluate the impacts of this proposed activity. Any comments received will be considered to determine whether or how to perform this work. To make this decision, comments are used to assess impacts on endangered species, historic properties, water quality, water supply and conservation, economics, aesthetics, wetlands, flood hazards, floodplain values, land use, navigation, shore erosion and accretion, recreation, energy needs, safety, food and fiber production, mineral needs, considerations of property ownership, general environmental effects, and in general, the needs and welfare of the people.

5. Activities that may be proposed that require a review under the guidelines promulgated by the Administrator, Environmental Protection Agency (EPA), under authority of Section 404(b)(1) of the Clean Water Act (40 CFR Part 230) will be documented in the DEIS. For example, fill placement would be required for construction of some water supply alternatives (impoundments, weirs, and intakes).

6. Other Federal, state and local approvals likely required for the proposed work are as follows:

a. Section 401 water quality certification from the Tennessee Department of Environment and Conservation.

b. Coordination with the U.S. Fish and Wildlife Service, including a Biological Assessment/Opinion for Endangered Species Act compliance and a Fish and Wildlife Coordination Act Report.

c. The Tennessee Valley Authority will be asked to be a Cooperating Agency under NEPA since some alternatives to be considered in detail may fall under their jurisdiction.

7. Significant issues to be analyzed in depth in the draft DEIS include impacts to high quality surface streams such as the Obed National Wild and Scenic River System and the Caney Fork River (upstream of the State of Tennessee's Bridgestone-Firestone Conservation Area), the magnitude of future water supply needs (determining realistic growth scenarios), local acceptability of some raw water sources (Watts Bar Lake), acceptability of the regional approach among existing water suppliers, and long-term operational costs. A DEIS should be available by December 2007.

8. Public Meeting: A public meeting is scheduled to assist in identifying (scope for) potential issues to be evaluated in the DEIS as follows:

Date: September 19, 2006.

Time: 6:30 p.m. to 9 p.m. (Central Standard Time).

Place: Palace Theater, 72 S. Main Street, Crossville, TN 38555.

Steven J. Roemhildt,
Lieutenant Colonel, Corps of Engineers, District Engineer.

[FR Doc. E6-14144 Filed 8-24-06; 8:45 am]

BILLING CODE 3710-GF-P